DEPARTMENT OF THE INTERIOR

Fish and Wildlife Service

[FWS-R4-ES-2022-N074; FXES11140400000-223-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by January 19, 2023.

ADDRESSES:

Reviewing Documents: Submit requests for copies of applications and other information submitted with the applications to Karen Marlowe (see FOR FURTHER INFORMATION CONTACT). All requests and comments should specify the applicant name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, 404-679-7097 (telephone) or karen_marlowe@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a) and the Freedom of Information Act (5 U.S.C. 552).

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES02166C-3 | Zoe Bryant; St. Augustine, FL | Ozark big-eared bat (Corynorhinus townsendii ingens) and tricolored bat (Perimyotis subflavus) | Alabama, Arkansas, Connecticut, Delaware, District of Columbia, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, West Virginia, Vermont, Wisconsin, and Wyoming | Presence/probable absence surveys | Capture with mist nets or harp traps, handle, identify, band, radio tag, and release | Amendment.
ES49227D-1 | Riverside Environmental Consulting; Birmingham, AL | Gopher tortoise (Gopherus polyphemus) and red-cockaded woodpecker (Picoides borealis) | Alabama, Arkansas, Florida, Georgia, Louisiana, Mississippi, North Carolina, Oklahoma, South Carolina, Texas, and Virginia | Presence/probable absence surveys and population management and monitoring | Reptiles: Scope burrows; Birds: Construct and monitor artificial nest cavities and restrictors | Amendment.
PER0056298-0 | Phillip Jordan; USDA Forest Service, Southern Research Station, Hot Springs, AR | Gray bat (Myotis grisescens), Indiana bat (Myotis sodalis), northern long-eared bat (Myotis septentrionalis), Ozark big-eared bat (Corynorhinus townsendii ingens), and tricolored bat (Perimyotis subflavus) | Alabama, Arkansas, Louisiana, Missouri, and Oklahoma | Presence/probable absence surveys and studies to document habitat use | Enter hibernacula or maternity roost caves, capture with mist nets or harp traps, handle, identify, band, radio tag, and release | New.
ES056510-7 | Joseph Pechmann; Western Carolina University, Cullowhee, NC | Dusky gopher frog (Rana sevosa) | Mississippi | Research population monitoring and headstarting | Capture, examine, measure, mark, tag, radio tag, temporarily hold, collect tail fin tissue samples, swab, sacrifice tadpoles, and salvage | Renewal and amendment.
ES21570C-3 | Tennessee Wildlife Resources Agency; Nashville, TN | Alabama lampmussel (Lampsilis virescens), Appalachian elktoe (Alasmidonta raveneliana), Appalachian monkeyface (Theliderma sparsa), birdwing pearlymussel (Lemiox rimosus), clubshell (Pleurobema clava), Coosa moccasinshell (Medionidus parvulus), cracking pearlymussel (Hemistena lata), Cumberland bean (Villosa trabalis), Cumberland elktoe (Alasmidonta atropurpurea), Cumberland monkeyface (Theliderma intermedia), Cumberland pigtoe (Pleuronaia gibber), Cumberlandian combshell (Epioblasma brevidans), dromedary pearlymussel (Dromus dromas), fanshell (Cyprogenia stegaria), finerayed pigtoe (Fusconaia cuneolus), fluted kidneyshell (Ptychobranchus subtentus), Georgia pigtoe (Pleurobema hanleyianum), green blossom (Epioblasma torulosa gubernaculum), littlewing pearlymussel (Pegias fabula), orangefoot pimpleback (Plethobasus cooperianus), oyster mussel (Epioblasma capsaeformis), pale lilliput (Toxolasma cylindrellus), pink mucket (Lampsilis abrupta), purple bean (Villosa perpurpurea), purple cat's paw (Epioblasma obliquata obliquata), rayed bean (Villosa fabalis), ring pink (Obovaria retusa), rough pigtoe (Pleurobema plenum), rough rabbitsfoot (Quadrula cylindrica strigillata), scaleshell (Leptodea leptodon), sheepnose (Plethobasus cyphyus), shiny pigtoe (Fusconaia cor), slabside pearlymussel (Pleuronaia dolabelloides), snuffbox (Epioblasma triquetra), southern acornshell (Epioblasma othcaloogensis), southern clubshell (Pleurobema decisum), southern pigtoe (Pleurobema georgianum), spectaclecase (Cumberlandia monodonta), tan riffleshell (Epioblasma florentina walkeri [=E. walkeri]), triangular kidneyshell (Ptychobranchus greenii), tubercled blossom (Epioblasma torulosa torulosa), turgid blossom (Epioblasma turgidula), upland combshell (Epioblasma metastriata), white wartyback (Plethobasus cicatricosus), winged mapleleaf (Quadrula fragosa), and yellow blossom (Epioblasma florentina florentina) | Tennessee | Scientific research, captive propagation, and relocation and reintroduction activities | Collect, transport, hold in captivity for more than 45 consecutive days, release, translocate, and euthanize | Renewal and amendment.
ES88809B-1 | Ray Eaton; Berea, KY | Gray bat (Myotis grisescens), Indiana bat (Myotis sodalis), northern long-eared bat (Myotis septentrionalis), Ozark big-eared bat (Corynorhinus townsendii ingens), tricolored bat (Perimyotis subflavus), and Virginia big-eared bat (Corynorhinus townsendii virginianus) | Alabama, Arkansas, Colorado, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys, studies to document habitat use, population monitoring, and evaluation of potential impacts of white-nose syndrome or other threats | Enter hibernacula or maternity roost caves, capture with mist nets or harp traps, handle, identify, band, radio tag, collect hair samples, swab, and release | Renewal and amendment.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

John Tirpak,
Deputy Assistant Regional Director, Ecological Services, Southeast Region.

[FR Doc. 2022-27612 Filed 12-19-22; 8:45 am]

BILLING CODE 4333-15-P